DEPARTMENT OF THE INTERIOR

Bureau of Land Management

[WYW 115104]

Public Land Order No. 7784; Extension of Public Land Order No. 6886; Wyoming

AGENCY: Bureau of Land Management, Interior.

ACTION: Public Land Order.

SUMMARY: This order extends the duration of the withdrawal created by Public Land Order No. 6886 for an additional 20-year period. This extension is necessary to continue the protection of the unique topographic characteristics and recreational values of the Snowy Range Recreation Area, which would otherwise expire on October 7, 2011.

DATES: Effective Date: October 8, 2011.

FOR FURTHER INFORMATION CONTACT: Nathan Haynes, U.S. Forest Service, Region 2, Supervisors Office, 2468 Jackson Street, Laramie, Wyoming 82070-6535, (307) 745-2317, or Janelle Wrigley, BLM Wyoming State Office, 5353 N. Yellowstone Road, P.O. Box 1828, Cheyenne, Wyoming 82003, (307) 775-6257. Persons who use a telecommunications device for the deaf (TDD) may call the Federal Information Relay Service (FIRS) at 1-800-877-8339 to reach the Forest Service or Bureau of Land Management contact during normal business hours. The FIRS is available 24 hours a day, 7 days a week, to leave a message or question with the above individual. You will receive a reply during normal business hours.

SUPPLEMENTARY INFORMATION: The purpose for which the withdrawal was first made requires this extension in order to continue the protection of the unique topographic characteristics and recreational values of the Snowy Range Recreation Area. The withdrawal extended by this order will expire on October 7, 2031, unless as a result of a review conducted prior to the expiration date pursuant to Section 204(f) of the Federal Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 6886 (56 FR 50661 (1991)), which withdrew 21,636.29 acres of National Forest System lands from location and entry under the United States mining laws (30 U.S.C. Ch. 2), but not from leasing under the mineral leasing laws, to protect the unique topographic characteristics and recreational values of the Snowy Range Area, is hereby extended for an additional 20-year period.

Authority: 43 CFR 2310.4.

Dated: September 27, 2011.
Rhea S. Suh,
Assistant Secretary—Policy, Management and Budget.

[FR Doc. 2011-26214 Filed 10-7-11; 8:45 am]

BILLING CODE 3410-11-P